DEPARTMENT OF AGRICULTURE

Forest Service

DeBaugan Fuels Reduction EIS, Lolo National Forest, Mineral County, MT

AGENCY: Forest Service, USDA.

ACTION: Notice; intent to prepare environmental impact statement.

SUMMARY: The Forest Service will prepare an environmental impact statement (EIS) on a proposal for a hazardous fuel reduction project to reduce the threat of wildfire to the communities of Saltese, Haugan, DeBorgia, and Cabin City in the St. Regis River drainage, Lolo National Forest, Superior Ranger District, Mineral County, Montana.

This EIS will tier to the Lolo Forest Plan Final EIS (April, 1986).

DATES: Written comments should be received within 30 days following publication this notice.

ADDRESSES: Please submit written comments on the proposed management activities or a request to be placed on the project mailing list to: Rob Harper, District Ranger, Superior Ranger District, Lolo National Forest, P.O. Box 460, Superior, Montana 59872.

FOR FURTHER INFORMATION CONTACT: Larry Svalberg, EIS Team Leader, (406) 826-4310.

SUPPLEMENTARY INFORMATION: The DeBaugan analysis area is located between St. Regis, Montana and Lookout Pass along the Interstate 90 corridor, in Mineral County. The project is located in parts of Townships and Ranges: T19N, R29W; T19N, R30W; T19N, R31W; and T20N, R31W; P.M.M., Mineral County, Montana. Within this area, the Lolo National Forest proposes to reduce fuels and reduce the threat of wildlife of up to 5,732. The proposed treatments include: (1) Prescribed burning approximately 1,347 acres; (2) heavy thinning of approximately 504 acres; (3) light thinning approximately 3,402 acres; (4) precommercial thinning of burning piles on approximately 58 acres; (6) constructing approximately 3.2 miles of new permanent roads; (7) constructing and later decommissioning approximately 8 miles of temporary road; (8) reconstruction of approximately 46 miles of existing roads to meet Montana Best Management Practices; (9) decommissioning of approximately 8.4 miles of existing road; (10) approximately 30 miles of herbicide treatment of noxious weeds along roadsides; (11) application of herbicide on dry sites to minimize spread of noxious weeds approximately 2,000 acres.

The Lolo National Forest Plan, 1986, provides overall guidance for land management activities in the project area. The purposes for these actions are to: (1) Reduce the intensity of wildlife near the communities of Cabin City, DeBorgia, Haugan, and Saltese to improve the chances of protecting these communities in the event of wildfires as defined in the Mineral County Community Protection Plan; (2) bring existing roads that will be utilized up to “Best Management Practices Standards”; (3) improve water quality and fish passage on roads that will be used during the fuels reduction project; (4) reduce the potential for the spread of noxious weeds during project implementation.

Issues currently identified for analysis in the EIS include potential effects on wildlife, sensitive plant species, water quality, fisheries, visual quality and forest access.

Under the Healthy Forest Restoration Act, the Forest Service will consider only one action alternative (that was developed during an intensive collaborative effort) and the no action alternative.

The Draft EIS is expected to be filed with the Environmental Protection Agency (EPA) and available for public review in May, 2007. Comments on the Draft EIS will be considered and responded to in the Final EIS, scheduled to be completed by January, 2008.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental reviews of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day scoping comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Responsible Official: Deborah L.R. Austin, Forest Supervisor, Lolo National Forest, Building 24—Fort Missoula, Missoula, MT 59804, is the responsible official. In making the decision, the responsible official will consider comments, responses, disclosure of environmental consequences, and applicable laws, regulations, and policies. The responsible official will state the rationale for the chosen alternative in the Record of Decision.

Dated: February 13, 2006.
Deborah L.R. Austin,
Forest Supervisor.

[FR Doc. 06-1591 Filed 2-21-06; 8:45 am]

BILLING CODE 3410-11-M